DEPARTMENT OF ENERGY

Federal Energy Regulatory Commission

[Docket No. EF03-2011-000, et al.]

United States Department of Energy, et al.; Electric Rate and Corporate Filings

August 4, 2003.

The following filings have been made with the Commission. The filings are listed in ascending order within each docket classification.

1. U.S. Department of Energy; Bonneville Power Administration

[Docket No. EF03-2011-000]

Take notice that on July 29, 2003, the Bonneville Power Administration (BPA) tendered for filing a proposed Safety-Net Cost Recovery Adjustment Clause (SN CRAC) under the 2002 General Rate Schedule Provisions (GRSPs) pursuant to section 7(a)(2) of the Pacific Northwest Electric Power Planning and Conservation Act, 16 U.S.C.839e(a)(2). BPA seeks interim approval of its proposed rates effective September 30, 2003, pursuant to Commission Regulation 18 CFR 300.20. Pursuant to Commission Regulation 18 CFR 300.21, BPA seeks interim approval and final confirmation of the proposed SN CRAC adjustment effective October 1, 2003, through September 30, 2006.

Comment Date: September 3, 2003.

2. Sithe New England Holdings, LLC v. ISO New England Inc.

[Docket No. EL02-128-002]

Take notice that on August 1, 2003, ISO New England Inc. (ISO) tendered for filing its report of compliance to the Commission's directive in its Order on Rehearing, dated July 1, 2003, in Docket No. EL02-128-000, 104 FERC ¶ 61,006. ISO New England states that copies of the filing have been served on all parties to the above-captioned proceeding.

Comment Date: September 2, 2003.

3. Oncor Electric Delivery Company

[Docket No. ER03-799-001]

Take notice that on July 30, 2003, Oncor Electric Delivery Company (Oncor) tendered for filing a Refund Report of Oncor Electric Delivery Company and designated Transmission Service Agreements as directed by the Commission's Order, 103 FERC ¶ 61,393. Comment Date: August 20, 2003.

4. New York Independent System Operator, Inc.

[Docket Nos. ER03-810-001]

Take notice that on July 30, 2003, the New York Independent System Operator, Inc. (NYISO) tendered for filing a compliance filing in connection with the Commission's June 30, 2003, Order in Docket No. ER03-810-000.

The NYISO states it has served a copy of this filing to all parties listed on the official service list in these proceedings. The NYISO also states that it has served a copy of this filing to all parties that have executed Service Agreements under the NYISO's Open-Access Transmission Tariff or Services Tariff, the New York State Public Service Commission and to the electric utility regulatory agencies in New Jersey and Pennsylvania.

Comment Date: August 20, 2003.

5. Northeast Utilities Service Company

[Docket No. ER03-907-001]

Take notice that on July 30, 2003, Northeast Utilities Service Company (NUSCO), on behalf of The Connecticut Light and Power Company, Western Massachusetts Electric Company, Holyoke Power and Electric Company and Holyoke Water Power Company (the NU Companies) submitted for filing a third amendment (Third Amendment) to the Settlement Agreement approved by the Commission in Northeast Utilities Service Company, 88 FERC ¶ 61,006 (the Settlement) to extend the rates, terms and conditions of the Settlement for an additional period of forty-five days commencing on July 30, 2003.

NUSCO states that it does not consider this filing to constitute a rate change within the meaning of 18 CFR 35.13 (2002). NUSCO requests that the Commission waive the requirements of 18 CFR 35.13.

NUSCO also states that a copy of this filing has been mailed to the service list and that no customers would be harmed by the Third Amendment.

Comment Date: August 20, 2003.

6. California Power & Light Company and Florida Power Corporation

[Docket No. ER03-962-001]

Take notice that on July 31, 2003, Florida Power Corporation, d/b/a Progress Energy Florida, Inc., filed Substitute First Revised Tariff Sheets Nos. 220 and 248 to correct the designations made in its original, June 17, 2003 filing in Docket No. ER03-962-000 consistent with Order No. 614.

Progress Energy Florida, Inc., states that copies of the filing were served on the official service list in the above referenced proceeding.

Comment Date: August 14, 2003.

7. Southern California Edison Company

[Docket No. ER03-1127-000]

Take notice that on July 30, 2003, Southern California Edison Company (SCE) tendered for filing a Letter Agreement between SCE and the City of Corona, California (Corona). SCE states that the purpose of the Letter Agreement is to provide an interim arrangement pursuant to which SCE will commence the engineering, design, procurement and preparation of specifications for the interconnection facilities and system upgrades necessary to provide Distribution Service from the California Independent System Operator Controlled Grid to a proposed new SCE-Corona 12 kV interconnection in the City of Corona. SCE also states that Corona is planning to construct distribution facilities from the proposed new SCE-Corona 12 kV interconnection to serve its Wholesale Distribution Loads in two new developments known as Corona Pointe and Crossroads Development.

SCE states that copies of this filing were served upon the Public Utilities Commission of the State of California and Corona.

Comment Date: August 20, 2003.

8. American Electric Power Service Corporation

[Docket No. ER03-1128-000]

Take notice that on July 30, 2003, the American Electric Power Service Corporation (AEPSC), tendered for filing an executed Network Integration Transmission Service Agreement for Buckeye Power, Inc. (Buckeye). AEPSC states that this agreement is pursuant to the AEP Companies' Open Access Transmission Service Tariff (OATT) that has been designated as the Operating Companies of the American Electric Power System FERC Electric Tariff, Third Revised Volume No. 6.

AEPSC requests waiver of notice to permit the Service Agreements to be made effective for service on and after July 1, 2003.

AEPSC states that a copy of the filing was served upon Buckeye and the state utility regulatory commissions of Arkansas, Indiana, Kentucky, Louisiana, Michigan, Ohio, Oklahoma, Tennessee, Texas, Virginia and West Virginia.

Comment Date: August 20, 2003.

9. Central Hudson Gas & Electric Corporation

[Docket No. ER03-1129-000]

Take notice that on July 29, 2003, Central Hudson Gas & Electric Corporation (Central Hudson) tendered for filing a Notice of Cancellation of FERC Rate Schedule, Original Volume No.1 (Power Sales Tariff) effective January 1, 1997 in Docket No. ER97-890-000. Central Hudson states that the Power Sales Tariff sets forth the terms for the sale, by Central Hudson, of surplus capacity and/or energy to electric utilities at negotiated rates no higher than Central Hudson's cost of service.

Central Hudson states that the cancellation is the result of the sale of the majority of Central Hudson's electric generation on January 30, 2001 and November 7, 2001.

Central Hudson requests waiver on the notice requirements set forth in 18 CFR 35.11 of the Regulations to permit the cancellation to become effective November 7, 2001.

Comment Date: August 20, 2003.

10. PJM Interconnection, L.L.C.

[Docket No. ER03-1130-000]

Take notice that on July 30, 2003, PJM Interconnection, L.L.C. (PJM), submitted for filing an interconnection service agreement (ISA) among PJM, PSEG Fossil, LLC and Public Service Electric and Gas Company and a notice of cancellation for an interim ISA that has terminated.

PJM requests a waiver of the Commission's 60-day notice requirement to permit a July 2, 2003 effective date for the ISA. PJM states that copies of this filing were served upon the parties to the agreements and the state regulatory commissions within the PJM region.

Comment Date: August 20, 2003.

11. PJM Interconnection, L.L.C.

[Docket No. ER03-1131-000]

Take notice that on July 30, 2003, PJM Interconnection, L.L.C. (PJM), submitted for filing an interconnection service agreement (ISA) among PJM, Constellation Power Source Generation, Inc. and Baltimore Gas and Electric Company and a notice of cancellation of an interim ISA that has terminated.

PJM requests a waiver of the Commission's 60-day notice requirement to permit a July 2, 2003 effective date for the ISA. PJM states that copies of this filing were served upon the parties to the agreements and the state regulatory commissions within the PJM region.

Comment Date: August 20, 2003.

12. PJM Interconnection, L.L.C.

[Docket No. ER03-1132-000]

Take notice that on July 30, 2003, PJM Interconnection, L.L.C. (PJM), submitted for filing an interconnection service agreement (ISA) among PJM, PSEG Fossil, L.L.C. and Public Service Electric and Gas Company and a notice of cancellation of an interim ISA that has terminated.

PJM requests a waiver of the Commission's 60-day notice requirement to permit a July 2, 2003 effective date for the ISA. PJM states that copies of this filing were served upon the parties to the agreements and the state regulatory commissions within the PJM region.

Comment Date: August 20, 2003.

13. PPL Montana, LLC

[Docket No. ER03-1133-000]

Take notice that, on July 30, 2003, PPL Montana, LLC (PPLM) tendered for filing PPLM's Rate Schedule 13. Rate Schedule 13 consists of the 1997 version of the Pacific Northwest Coordination Agreement (PNCA), as amended, and related agreements. PPLM request acceptance of this new rate schedule designation for the 1997 PNCA to be effective August 1, 2003.

PPLM states that a copy of the filing has been served upon all parties to the PNCA.

Comment Date: August 20, 2003.

14. PJM Interconnection, L.L.C.

[Docket No. ER03-1134-000]

Take notice that on July 30, 2003, PJM Interconnection, L.L.C. (PJM), submitted for filing an interconnection service agreement (ISA) among PJM, PSEG Fossil, L.L.C. and Public Service Electric and Gas Company and a notice of cancellation for an interim ISA that has terminated.

PJM requests a waiver of the Commission's 60-day notice requirement to permit a July 2, 2003 effective date for the ISA. PJM states that copies of this filing were served upon the parties to the agreements and the state regulatory commissions within the PJM region.

Comment Date: August 20, 2003.

15. Southwest Power Pool, Inc.

[Docket No. ER03-1135-000]

Take notice that on July 30, 2003, Southwest Power Pool, Inc. (SPP) submitted for filing an executed service agreement for Firm Point-to-Point Transmission Service with Kansas Municipal Energy Agency (KMEA). SPP seeks an effective date of July 1, 2003 for the service agreement.

SPP states that copies of this filing were sent to KMEA.

Comment Date: August 20, 2003.

16. Southwest Power Pool, Inc.

[Docket No. ER03-1135-000]

Take notice that on July 30, 2003, Southwest Power Pool, Inc. (SPP) submitted for filing an executed service agreement for Firm Point-to-Point Transmission Service with Kansas Municipal Energy Agency (KMEA). SPP seeks an effective date of July 1, 2003 for the service agreement.

SPP states that copies of this filing were sent to KMEA.

Comment Date: August 20, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20453 Filed 8-8-03; 8:45 am]

BILLING CODE 6717-01-P